DEPARTMENT OF COMMERCE

Foreign-Trade Zones Board

[Docket 29-2002]

Foreign-Trade Zone 20—Newport News, Application for Subzone, Canon Virginia, Inc. (Computer Printers and Related Products), Newport News, VA

Correction

In notice document 02-17853 beginning on page 46632 in the issue of Tuesday, July 16, 2002, make the following correction:

On page 46633, in the first column, in the fifth line “[60 days from date of publication]” should read “September 16, 2002”.

[FR Doc. C2-17853 Filed 7-29-02; 8:45 am]

BILLING CODE 1505-01-D

DEPARTMENT OF DEFENSE

Department of the Army

Inland Waterways Users Board; Request for Nominations

Correction

In notice document 02-18274 beginning on page 47525 in the issue of Friday, July 19, 2002, make the following correction:

On page 47526, in the first column, in paragraph numbered (3), in the fourth line, “ten-miles” should read “ton-miles ”.

[FR Doc. C2-18274 Filed 7-29-02; 8:45 am]

BILLING CODE 1505-01-D

DEPARTMENT OF EDUCATION

Local Flexibility Demonstration Program Office of Elementary and Secondary Education, Department of Education; Notice inviting applications for the Local Flexibility Demonstration Program

Correction

In notice document 02-18306, beginning on page 47528 in the issue of Friday, July 19, 2002, make the following correction:

On page 47528, in the second column, in the fifth paragraph headed Applications Available:, in the first line, the date “September 17, 2002” is changed to read “July 19, 2002”.

[FR Doc. C2-18306 Filed 7-29-02; 8:45 am]

BILLING CODE 1505-01-D

DEPARTMENT OF HEALTH AND HUMAN SERVICES

Food and Drug Administration

21 CFR Part 2

[Docket No. 97N-0023]

RIN 0910-AA99

Use of Ozone-Depleting Substances; Essential-Use Determinations

Correction

In rule document 02-18610 beginning on page 48370 in the issue of Wednesday, July 24, 2002, make the following correction:

On page 48370, in the third column, under the heading “ACTION:”, in the first line, insert the words “Final rule.”.

[FR Doc. C2-18610 Filed 7-29-02; 8:45 am]

BILLING CODE 1505-01-D

DEPARTMENT OF TRANSPORTATION

Federal Aviation Administration

14 CFR Part 39

[Docket No. 2002-CE-AD]

RIN 2120-AA64

Airworthiness Directives; Vulcanair S.p.A P 68 Series Airplanes

Correction

In proposed rule document 02-17601 beginning on page 46427 in the issue of Monday, July 15, 2002, make the following correction:

§39.13 [Corrected]

On page 46429, in the table, in §39.13, under the heading Model, in the second line, “P 68 “OBSERVER” should read “P 68 “OBSERVER 2'' ”.

[FR Doc. C2-17601 Filed 7-29-02; 8:45 am]

BILLING CODE 1505-01-D